FEDERAL ELECTION COMMISSION

Sunshine Act Notices

Date and Time: Tuesday, March 23, 2004, at 10 a.m.

Place: 999 E Street, NW., Washington, DC

Status: This meeting will be closed to the public.

Items to be Discussed:

Compliance matters pursuant to 2 U.S.C. 437g.

Audits conducted pursuant to 2 U.S.C. 437g, 438(b), and title 26, U.S.C.

Matters concerning participation in civil actions or proceedings or arbitration.

Internal personnel rules and procedures or matters affecting a particular employee.

* * * * *

Date and Time: Thursday, March 25, 2004, at 10 a.m.

Place: 999 E Street, NW., Washington, DC (ninth floor).

Status: This meeting will be open to the public.

Items to be Discussed:

Correction and approval of minutes.

Draft Advisory Opinion 2004-06: Meetup, Inc. by counsel, Marc E. Elias and Brian G. Svoboda.

Legislative Recommendations 2004.

Routine Administrative Matters.

FOR FURTHER INFORMATION CONTACT: Robert Biersack, Acting Press Officer, Telephone: (202) 694-1220.

Mary W. Dove,
Secretary of the Commission.

[FR Doc. 04-6194 Filed 3-16-04; 11:48 am]

BILLING CODE 6715-01-M